COMMODITY FUTURES TRADING COMMISSION

Renewal of the Global Markets Advisory Committee

AGENCY: Commodity Futures Trading Commission.

ACTION: Notice of renewal.

SUMMARY: The Commodity Futures Trading Commission (CFTC or Commission) is publishing this notice to announce the renewal of the Global Markets Advisory Committee (GMAC). The Commission has determined that the renewal of the GMAC is necessary and in the public's interest, and the CFTC has consulted with the General Services Administration's Committee Management Secretariat regarding the GMAC's renewal.

FOR FURTHER INFORMATION CONTACT: Harry Jung, GMAC Designated Federal Officer, at 202-394-3995 or hjung@cftc.gov.

SUPPLEMENTARY INFORMATION: The CFTC's advisory committees were created to provide input and make recommendations to the Commission on a variety of regulatory and market issues that affect the integrity and competitiveness of U.S. derivatives markets. The committees facilitate communication between the Commission and U.S. derivatives markets, trading firms, market participants, and end users. The GMAC is one of five CFTC advisory committees. The GMAC's objectives and scope of activities are to provide advice and recommendations on matters of public concern to the exchanges, firms, market users, other market participants, and the Commission regarding the regulatory challenges of a global marketplace, which reflect the increasing interconnectedness of markets and the multinational nature of business. Through its recommendations, the GMAC will help the Commission determine how it can avoid unnecessary regulatory or operational impediments to global business while still preserving core protections for customers and other market participants. The GMAC will also make recommendations for appropriate international standards for regulating futures, swaps, options, and derivatives markets, as well as intermediaries. Additionally, the GMAC will assist the Commission by providing advice concerning the impact on U.S. markets and firms of the Commission's international efforts and the initiatives of foreign regulators and market authorities. The GMAC will also assist with providing advice on methods to improve both domestic and international regulatory structures while continuing to allow U.S. markets and firms to remain competitive in the global market.

The GMAC will operate for two years from the date of renewal unless the Commission directs that the GMAC terminate on an earlier date. A copy of the GMAC renewal charter has been filed with the Commission; the Senate Committee on Agriculture, Nutrition and Forestry; the House Committee on Agriculture; the Library of Congress; and the General Services Administration's Committee Management Secretariat. A copy of the renewal charter will be posted on the CFTC's website at www.cftc.gov.

Dated: August 15, 2024.
Christopher Kirkpatrick,
Secretary of the Commission.

[FR Doc. 2024-18660 Filed 8-19-24; 8:45 am]

BILLING CODE 6351-01-P